DEPARTMENT OF THE INTERIOR

National Park Service

National Park System Advisory Board; Meeting

AGENCY: National Park Service, Interior.

ACTION: Notice of meeting.

Notice is hereby given in accordance with the Federal Advisory Committee Act, 5 U.S.C. Appendix, that the National Park System Advisory Board will meet March 21-22, 2006, in Jacksonville, Florida. The Board will convene its business meeting on March 21 at 8:30 a.m., e.s.t., at the Ribault Inn Club, 11241 Fort George Road, Jacksonville, Florida 32226, telephone 904-251-1050. The Board will be addressed by National Park Service Director Fran Mainella and will receive the reports of its Education Committee, National Landmarks Committee, Committee on Health and Recreation, National Parks Science Committee, Committee on Federal Historic Rehabilitation Tax Credit, and Partnerships Committee. Nominations for National Historic Landmark designation and National Natural Landmark designation will be considered during the morning session. The business meeting will be adjourned at 4 p.m., on March 21. On March 22, the Board will tour Timucuan National Ecological Preserve and will be briefed regarding environmental, education and partnership programs.

Other officials of the National Park Service and the Department of the Interior may address the Board, and other miscellaneous topics and reports may be covered. The order of the agenda may be changed, if necessary, to accommodate travel schedules or for other reasons.

The Board meeting will be open to the public. Space and facilities to accommodate the public are limited and attendees will be accommodated on a first-come basis. Anyone may file with the Board a written statement concerning matters to be discussed. The Board also may permit attendees to address the Board, but may restrict the length of the presentations, as necessary to allow the Board to complete its agenda within the allotted time.

Anyone who wishes further information concerning the meeting, or who wishes to submit a written statement, may contact Mr. Loran Fraser, Chief, Office of Policy, National Park Service; 1849 C Street, NW., Room 7250; Washington, DC 20240; telephone 202-208-7456.

Draft minutes of the meeting will be available for public inspection about 12 weeks after the meeting, in room 7252, Main Interior Building, 1849 C Street, NW., Washington, DC.

Dated: February 24, 2006.
Loran Fraser,
Chief, Office of Policy.

[FR Doc. E6-3121 Filed 3-3-06; 8:45 am]

BILLING CODE 4310-70-P